DEPARTMENT OF THE INTERIOR

Fish and Wildlife Service

[FWS-R4-ES-2017-N024; FXES11130900000C2-178-FF09E32000]

Endangered and Threatened Wildlife and Plants; 5-Year Status Reviews of 23 Southeastern Species

AGENCY: Fish and Wildlife Service, Interior.

ACTION: Notice of initiation of reviews; request for information.

SUMMARY: We, the U.S. Fish and Wildlife Service (Service), are initiating 5-year status reviews of 23 species under the Endangered Species Act of 1973, as amended (Act). We conduct these reviews to ensure that the classification of species as threatened or endangered on the Lists of Endangered and Threatened Wildlife and Plants is accurate. A 5-year review is an assessment of the best scientific and commercial data available at the time of the review. Therefore, we are requesting submission of information that has become available since the last review of each of these species.

DATES: To allow us adequate time to conduct these reviews, we must receive your comments or information on or before August 29, 2017. However, we will continue to accept new information about any listed species at any time.

ADDRESSES: For instructions on how to submit information and review information we receive on these species, see “Request for New Information.”

FOR FURTHER INFORMATION CONTACT: For species-specific information, see “Request for New Information.”

SUPPLEMENTARY INFORMATION:

Why do we conduct a 5-year review?

Under the Act (16 U.S.C. 1531 et seq.), we maintain lists of endangered and threatened wildlife and plant species in the Code of Federal Regulations (CFR) at 50 CFR 17.11 (for wildlife) and 17.12 (for plants). Section 4(c)(2)(A) of the Act requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

Species Under Review

This notice announces our active review of 22 species that are currently listed as endangered:

Fish and Wildlife

Florida panther (Puma concolor coryi)

Puerto Rican broad-winged hawk (Buteo platypterus brunnescens)

Puerto Rican nightjar (Caprimulgus noctitherus)

Cumberland darter (Etheostoma susanae)

Rush darter (Etheostoma phytopilum)

Vermilion darter (Etheostoma chermocki)

Pygmy madtom (Noturus stanauli)

Cumberland bean (Villosa trabalis)

Ring pink (Obovaria retusa)

Anthony's riversnail (Athearnia anthonyi)

Plants

Arabis perstellata (Braun's rock-cress)

Chamaesyce deltoidea spp. deltoidea (Deltoid spurge)

Clematis morefieldii (Morefield's leatherflower)

Conradina verticillata (Cumberland rosemary)

Galactia smallii (Small's milkpea)

Lyonia truncata var. proctorii (no common name)

Polygala smallii (Tiny polygala)

Pityopsis ruthii (Ruth's golden aster)

Sarracenia rubra ssp.alabamensis (Alabama canebrake pitcher plant)

Schwalbea americana (American chaffseed)

Vernonia proctorii (no common name)

Adiantum vivesii (no common name)

This notice also announces our active review of 1 species that is currently listed as threatened:

Fish and Wildlife

Ozark cavefish (Troglichthys rosae)

What information do we consider in our review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How Do We Determine Whether a Species Is Endangered or Threatened?”); and

E. Other new information, data, or corrections, including but not limited to taxonomic or nomenclatural changes, identification of erroneous information contained in the List, and improved analytical methods.

New information will be considered in the 5-year review and ongoing recovery programs for the species.

Definitions

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How do we determine whether a species is endangered or threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Request for New Information

To do any of the following, contact the person associated with the species you are interested in below:

A. To get more information on a species;

B. To submit information on a species; or

C. To review information we receive, which will be available for public inspection by appointment, during normal business hours, at the listed addresses.

Mammals

• Florida panther: South Florida Ecological Services Field Office, U.S. Fish and Wildlife Service, 12085 State Road 29 S, Immokalee, FL 34142; fax 772-562-4288. For information on these species, contact David Shindle at the ES Field Office (by phone at 239-657-8013, or by email at david_shindle@fws.gov).

Birds

• Puerto Rican broad-winged hawk and Puerto Rican nightjar: Caribbean Ecological Services Field Office, U.S. Fish and Wildlife Service, Road 301, Km. 5.1, P.O. Box 491, Boqueron, PR 00622; fax 787-851-7440. For information on these species, contact Jose Cruz-Burgos at the ES Field Office (by phone at 787-851-7297, ext.218 or by email at jose_cruz-burgos@fws.gov).

Fishes

• Ozark Cavefish: Arkansas Ecological Services Field Office, U.S. Fish and Wildlife Service, 110 South Amity Road, Suite 300, Conway, Arkansas 72032; fax 501-513-4480. For information on these species, contact Tommy Inebnit at the ES Field Office (by phone at 501-513-4483 or by email at thomas_inebnit@fws.gov).

• Cumberland darter: Kentucky Ecological Services Field Office, U.S. Fish and Wildlife Service, 330 West Broadway, Frankfort, Kentucky 40601 fax 502-695-1024. For information on these species, contact Dr. Michael Floyd at the ES Field Office (by phone at 502-695-0468 ext. 102 or by email at mike_floyd@fws.gov).

• Rush darter and Vermilion darter: Mississippi Ecological Services Field Office, U.S. Fish and Wildlife Service, U.S. Fish and Wildlife Service, 6578 Dogwood View Parkway, Jackson, MS 39213; fax 601-965-4340. For information on these species, contact Daniel Drennen at the ES Field Office (by phone at 601-321-1127 or by email at daniel_drennen@fws.gov).

• Pygmy madtom: Tennessee Ecological Services Field Office, U.S. Fish and Wildlife Service, U.S. Fish and Wildlife Service, 446 Neal Street, Cookeville, TN 38501; fax 931-528-7075. For information on these species, contact Warren Stiles at the ES Field Office (by phone at 931-525-4977 or by email at warren_stiles@fws.gov).

Clams

• Cumberland bean and Ring pink: Kentucky Ecological Services Field Office (see contact information above). For information on these species, contact Leroy Koch at the ES Field Office (by phone at 502-695-0468 ext. 106 or by email at leroy_koch@fws.gov.

Snails

• Anthony's riversnail: Tennessee Ecological Services Field Office (see contact information above). For information on these species, contact Stephanie Chance at the ES Field Office (by phone at 931-528-6481 ext. 211 or by email at stephanie_chance@fws.gov).

Plants

• Arabis perstellata (Braun's rock-cress): Kentucky Ecological Services Field Office. For information on these species, contact Dr. Michael Floyd (see contact information above).

• Chamaesyce deltoidea spp. deltoidea (Deltoid spurge), Galactia smallii (Small's milkpea), and Polygala smallii (Tiny polygala): South Florida Ecological Services Field Office, U.S. Fish and Wildlife Service, 1339 20th Street, Vero Beach, FL 32960; fax 772-562-4288. For information on these species, contact David Bender at the ES Field Office (by phone at 772-469-4294 or by email at david_bender@fws.gov).

• Clematis morefieldii (Morefield's leatherflower), Conradina verticillata (Cumberland rosemary), and Pityopsis ruthii (Ruth's golden aster): Tennessee Ecological Services Field Office (see contact information above). For information on these species, contact Geoff Call at the ES Field Office (by phone at 931-525-4983 or by email at geoff_call@fws.gov).

• Lyonia truncata var. proctorii (no common name), Vernonia proctorii (no common name), and Adiantum vivesii (no common name): Caribbean Ecological Services Field Office. For information on these species, contact Jose Cruz-Burgos (see contact information above).

• Sarracenia rubra ssp. alabamensis (Alabama canebrake pitcher plant): Mississippi Ecological Services Field Office (see contact information above). For information on these species, contact Scott Wiggers at the ES Field Office (by phone at 228-475-0765 or by email at marion_wiggers@fws.gov).

• Schwalbea americana (American chaffseed): South Carolina Ecological Services Field Office, U.S. Fish and Wildlife Service, 176 Croghan Spur Road, Suite 200, Charleston, SC 29412; fax 843-727-4218. For information on these species, contact April Punsalan at the ES Field Office (by phone at 843-727-4707 ext. 218 or by email at april_punsalan@fws.gov).

We request any new information concerning the status of any of these 23 species. See “What Information Do We Consider In Our Review?” heading for specific criteria. Information submitted should be supported by documentation such as maps, bibliographic references, methods used to gather and analyze the data, and/or copies of any pertinent publications, reports, or letters by knowledgeable sources.

Public Availability of Comments

Before including your address, phone number, email address, or other personal identifying information in your comment, you should be aware that the entire comment—including your personal identifying information—may be made publicly available at any time. While you can ask us in your comment to withhold your personal identifying information from public review, we cannot guarantee that we will be able to do so.

Authority

We publish this document under the authority of the Endangered Species Act (16 U.S.C. 1531 et seq.).

Dated: April 18, 2017.
Mike Oetker,
Acting Regional Director, Southeast Region.

[FR Doc. 2017-13758 Filed 6-29-17; 8:45 am]

BILLING CODE 4333-15-P